TENNESSEE VALLEY AUTHORITY

Meeting of the Regional Energy Resource Council

AGENCY: Tennessee Valley Authority (TVA).

ACTION: Notice of meeting.

SUMMARY: The TVA Regional Energy Resource Council (RERC) will hold a meeting on Thursday, June 14, 2018, to discuss the focus areas that TVA has identified for preparing the 2019 Integrated Resource Plan.

The RERC was established to advise TVA on its energy resource activities and the priority to be placed among competing objectives and values. Notice of this meeting is given under the Federal Advisory Committee Act (FACA).

DATES: The public meeting will be held on Thursday, June 14, 2018, from 8:30 a.m. to 3:30 p.m., EDT.

ADDRESSES: The meeting will be held at The Chattanoogan Hotel, 1201 Broad Street, Chattanooga, Tennessee 37402, and will be open to the public. Anyone needing special access or accommodations should let the contact below know at least a week in advance.

FOR FURTHER INFORMATION CONTACT: Barbie Perdue, 865-632-6113, baperdue@tva.gov.

SUPPLEMENTARY INFORMATION: The meeting agenda includes the following:

1. Introductions

2. TVA Update on Key Issues and Projects

3. Overview of the 2019 Integrated Resource Plan (IRP) and Supplemental Environmental Impact Statement

4. Overview of the Focus Areas for the 2019 IRP

5. Overview of Public Engagement Plans for the 2019 IRP

6. Public Comments

7. Council Discussion and Advice

The RERC will hear opinions and views of citizens by providing a public comment session starting at 1:00 p.m., EDT, lasting up to one hour, on Thursday, June 14, 2018. Persons wishing to speak are requested to register at the door between 11:00 a.m. and 12:30 p.m., EDT, on Thursday, June 14, 2018, and will be called on during the public comment period. TVA will set time limits for registered persons to provide oral comments. Handout materials should be limited to one printed page. Written comments are also invited and may be mailed to the Regional Energy Resource Council, Tennessee Valley Authority, 400 West Summit Hill Drive, WT-9-D, Knoxville, Tennessee 37902.

Dated: May 23, 2018.
Joseph J. Hoagland,
Vice President, Enterprise Relations and Innovation, Tennessee Valley Authority.

[FR Doc. 2018-11519 Filed 5-29-18; 8:45 am]

BILLING CODE 8120-08-P